DEPARTMENT OF TRANSPORTATION

Federal Motor Carrier Safety Administration

[Docket No. FMCSA-2016-0116]

Household Goods Consumer Protection Working Group: Membership Solicitation

AGENCY: Federal Motor Carrier Safety Administration (FMCSA), DOT.

ACTION: Notice, request for applications and nominations to the Household Goods Consumer Protection Working Group.

SUMMARY: FMCSA announces its intent to establish the Household Goods (HHG) Consumer Protection Working Group (Working Group). The Fixing America's Surface Transportation (FAST) Act requires FMCSA to establish this Working Group to provide recommendations on how to better educate and protect HHG moving customers (consumers) during an interstate HHG move. FMCSA solicits applications and nominations of interested persons to serve on the Working Group. As required by the FAST Act, the Working Group must be composed of individuals with expertise in consumer affairs, educators with expertise in how people learn most effectively, and representatives of the interstate HHG moving industry. The FAST Act mandates that the Working Group make its recommendations and the U.S. Department of Transportation (DOT) publish them no later than December 4, 2016.

DATES: Applications/Nominations for the Working Group must be received electronically on or before May 20, 2016.

FOR FURTHER INFORMATION CONTACT: Kenneth Rodgers, Chief, Commercial Enforcement and Investigations Division, Federal Motor Carrier Safety Administration, U.S. Department of Transportation, 1200 New Jersey Avenue SE., Washington, DC 20590. Phone (202) 366-0073; Email kenneth.rodgers@dot.gov.

SUPPLEMENTARY INFORMATION:

I. Background

FAST Act

Section 5503 of the FAST Act (Pub. L. 114-94) (December 4, 2015) requires the Working Group to provide recommendations to the Secretary of Transportation, through the FMCSA Administrator. The Working Group will operate in accordance with the Federal Advisory Committee Act (FACA, 5 U.S.C. App 2).

As required by Section 5503 of the FAST Act, the Working Group will make recommendations in three areas relating to “how to best convey to consumers relevant information with respect to the Federal laws concerning the interstate transportation of household goods by motor carrier.” Those areas are:

1. How to condense the FMCSA “Ready to Move ?” moving tips document published in April 2006 (FMCSA-ESA-03-005) into a more consumer friendly format;

2. How best to use state-of-the-art education techniques and technologies for conveying relevant information with respect to Federal statutes and regulations concerning the interstate transportation of HHG (including how to optimize use of the Internet as an educational tool); and

3. How to reduce and simplify the paperwork required of motor carriers and shippers in interstate transportation.

Section 5503 also mandates that the Secretary of Transportation appoint a Working Group that is comprised of (i) individuals with expertise in consumer affairs; (ii) educators with expertise in how people learn most effectively; and (iii) representatives of the FMCSA regulated interstate HHG moving industry.

The working group will terminate one year after the date its recommendations are submitted to the Secretary of Transportation.

II. Member and Meeting Information

If members are appointed from the private sector, they will serve without pay, but the FMCSA Administrator may allow a member, when attending Working Group meetings (or sub-group meetings of such group), to be reimbursed for expenses authorized under Section 5703 of Title 5, United States Code and the Federal Travel Regulation System (41 CFR Subtitle F), relating to per diem, travel, and transportation. Non-Federal employee Working Group members appointed as individuals with expertise in consumer affairs or as educators with expertise in how people learn most effectively also will be deemed Special Government Employees (SGEs), as defined by 18 U.S.C. 202(a). SGE status means Federal ethics rules apply, in part, to these non-Federal employee members and such members may be required to file confidential financial disclosure reports to detect and resolve any real or apparent financial conflicts of interest with the Working Group.

The Working Group members who are individuals with expertise in consumer affairs or who are educators with expertise in how people learn most effectively cannot be subject to the registration and reporting requirements of the Lobbying Disclosure Act (2 U.S.C. 1605). See 79 FR 47482 (Revised Guidance on Appointment of Lobbyists to Federal Advisory Committees, Boards, and Commissions)(August 13, 2014)).

The FMCSA Designated Federal Official who will oversee the Working Group anticipates calling a series of meetings on the following dates:

• May 24, 2016

• June 28, 2016

• July 26, 2016

• August 30, 2016

• September 27, 2016

Meetings will be in person and/or via teleconference. All meetings in furtherance of this FAST Act mandate will be open to the general public, unless cause exists (albeit unlikely) to close the meeting to the public under an exception provided under the FACA. Notice of each meeting will be published in the Federal Register at least 15 calendar days prior to the date of the meeting.

III. Request for Nominations

The DOT, through FMCSA, seeks applications and nominations for membership to the Working Group. Applicants or nominees must be either: (i) Individuals with expertise in consumer affairs; (ii) educators with expertise in how people learn most effectively; or (iii) representatives of the FMCSA-regulated interstate household goods moving industry. The DOT will consider professional credentials such as experience, education, and achievements. The Department also endeavors to appoint members of diverse views and interests to ensure the committee is balanced, with appropriate consideration of background.

Qualified individuals may self-apply or be nominated by any individual or organization. To be considered, applicants and nominators should submit the following information:

(1) Name, title, and relevant contact information (including phone and email address) and a description of the interests the applicant/nominee shall represent;

(2) Any letter(s) of support from an individual, a company, union, trade association, or non-profit organization on letterhead, containing a brief description why the applicant/nominee should be considered for membership;

(3) A resume or short biography of the applicant/nominee, including professional and academic credentials; and

(4) An affirmative statement that the applicant/nominee meets all Working Group eligibility requirements.

Please do not send company, trade association, or organization brochures or any other information. Should more information be needed, DOT staff will contact the applicant/nominee, obtain information from the applicant/nominee's past affiliations, or obtain information from publicly available sources, such as the Internet.

Nominations are open to all individuals without regard to race, color, religion, sex, national origin, age, mental or physical handicap, marital status, or sexual orientation. To ensure that recommendations to the Secretary take into account the needs of the diverse groups served by DOT, membership shall include, to the extent practicable, individuals with demonstrated ability to represent minorities, women, and persons with disabilities.

Applicants and nominators should submit the above information via electronic transmission to Kenneth Rodgers, FMCSA Office of Enforcement and Compliance, at kenneth.rodgers@dot.gov. The submission must be received on or before May 20, 2016.

Issued on: April 13, 2016.
T. F. Scott Darling, III,
Acting Administrator.

[FR Doc. 2016-09113 Filed 4-19-16; 8:45 am]

BILLING CODE 4910-EX-P